CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its new Volunteer Service Hour Tracking Tool. Copies of the information collection request can be obtained by contacting the office listed below in the ADDRESSES section of this notice.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

DATES: Written comments must be submitted to the office listed in the ADDRESSES section by May 28, 2002.

ADDRESSES: Send comments to: Corporation for National and Community Service, Attn. Christine Benero, Director, Public Affairs and Public Liaison, 1201 New York Avenue, NW., Washington, DC 20525.

FOR FURTHER INFORMATION CONTACT: Christine Benero, (202) 606-5000, ext. 193, or at CBenero@cns.gov.

SUPPLEMENTARY INFORMATION:

Record of Service

I. Background

In his State of the Union address, President Bush called on all Americans to perform some form of service to the nation for the equivalent of two years of his or her life. Americans serve their country in extraordinary and countless ways. Most of our Nation 's civic work is being done without the aid of the Federal Government, but we believe the Federal Government can work to enhance the opportunities for Americans to serve their neighbors and their Nation. The Administration proposes to create and expand activities that will enhance homeland security, provide additional community-based service and volunteer opportunities, and assist people around the world. In January, the President announced the creation of the USA Freedom Corps which will have three major components: a newly created Citizen Corps to engage citizens in homeland security; an improved and enhanced AmeriCorps and Senior Corps, programs of the Corporation for National and Community Service (Corporation); and a strengthened Peace Corps.

In support of the President's call to service, the Corporation has created an electronic record of service that provides citizens who accept his challenge a way to track their service time and record their service hours Use of this tracking tool is 100 percent electronic in that users will establish a user ID and password that automatically creates a “record of service” account which is only accessible to that particular user. This record of service account can be updated only by the user who established the account. In addition, those users who create a record of service account can, by checking various blocks, elect to receive information about USA Freedom Corps and other national and community service volunteer activities.

II. Current Action

Because of President Bush's announcement on March 12, 2002, which informed the public of the availability of this record of service, the Corporation, on March 6, 2002, submitted a request for emergency processing and approval by OMB of this record of service because it could not reasonably comply with the normal clearance procedures under the Paperwork Reduction Act. OMB approved this request on March 12, 2002, for a period of six months to expire on September 30, 2002, and assigned Control Number 3045-0077 to this information collection activity. The link to this record of service, which is now available for use, and which serves as a means for the public to record their record of service may be found on the following Internet address: http://www.usafreedomcorps.gov.

Type of Review: Renewal.

Agency: Corporation for National and Community Service.

Title: Volunteer Service Hour Tracking Tool.

OMB Number: 3045-0077.

Agency Number: None.

Affected Public: Citizens of the United States.

Total Respondents: 10,000.

Frequency: On occasion.

Average Time Per Response: 3 minutes.

Estimated Total Burden Hours: 500 hours.

Total Burden Cost (capital/startup): None.

Total Burden Cost (operating/maintenance): None.

Comments submitted in response to this notice will be summarized and/or included in the request for Office of Management and Budget approval of the information collection request; they will also become a matter of public record.

Dated: March 22, 2002.
Christine Benero,
Director, Public Affairs and Public Liaison.

[FR Doc. 02-7443 Filed 3-28-02; 8:45 am]

BILLING CODE 6050-$$-P